EXPORT-IMPORT BANK

Sunshine Act Meetings

Notice of an Open Meeting of the Board of Directors of the Export-Import Bank of the United States

TIME AND DATE: Thursday, August 13, 2020 at 10:00 a.m.

PLACE: The meeting will be held via teleconference.

STATUS: The meeting will be open to public observation by teleconference only.

MATTERS TO BE CONSIDERED:

Stakeholder presentations regarding the request to renew EXIM's partnership with Private Export Funding Corporation (PEFCO).

CONTACT PERSON FOR MORE INFORMATION: Joyce Stone (Mobile 202-257-4086). Members of the public who wish to attend the meeting via teleconference should register via https://attendee.gotowebinar.com/register/4040042635128782091 by close of business Monday, August 10, 2020. Individuals will be directed to a Webinar registration page and provided call-in information.

Joyce B. Stone,
Assistant Corporate Secretary.

[FR Doc. 2020-16922 Filed 7-30-20; 4:15 pm]

BILLING CODE 6690-01-P